DEPARTMENT OF TRANSPORTATION

National Highway Traffic Safety Administration

[Docket No. NHTSA-2019-0095; NHTSA-2019-0134; Notice 1]

Specialty Tires of America, Inc., Receipt of Petitions for Decision of Inconsequential Noncompliance

AGENCY: National Highway Traffic Safety Administration (NHTSA), Department of Transportation (DOT).

ACTION: Receipt of petitions.

SUMMARY: Specialty Tires of America, Inc. (STA) has determined that certain STA light truck tires do not fully comply with Federal Motor Vehicle Safety Standard (FMVSS) No. 119, New Pneumatic Tires for Motor Vehicles with a GVWR of More than 4,536 kilograms (10,000 pounds) and Motorcycles, or FMVSS No. 139, New Pneumatic Radial Tires for Light Vehicles. STA filed noncompliance reports dated August 27, 2019, November 15, 2019, and November 18, 2019. STA also petitioned NHTSA on September 16, 2019, and December 13, 2019, and later amended the former on March 3, 2020, for a decision that the subject noncompliances are inconsequential as they relate to motor vehicle safety. This document announces receipt of STA's petitions.

DATES: The closing date for comments on the petitions is November 5, 2020.

ADDRESSES: Interested persons are invited to submit written data, views, and arguments on these petitions. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petitions are granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview

STA has determined that certain STA light truck tires do not fully comply with paragraph S6.5(f) of FMVSS No. 119, New Pneumatic Tires for Motor Vehicles with a GVWR of More than 4,536 kilograms (10,000 pounds) and Motorcycles (49 CFR 571.119) or paragraphs S5.5(e) and (f) of FMVSS No. 139, New Pneumatic Radial Tires for Light Vehicles (49 CFR 571.139). STA filed noncompliance reports dated August 27, 2019, November 15, 2019, and November 18, 2019, pursuant to 49 CFR part 573, Defect and Noncompliance Responsibility and Reports. STA also petitioned NHTSA on September 16, 2019, and December 13, 2019, and later amended the former on March 3, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt, of STA's petitions, is published under 49 U.S.C. 30118 and 30120 and does not represent any agency decision or other exercises of judgment concerning the merits of the petitions.

II. Tires Involved

Approximately 5,489 of the following STA light truck tires, manufactured between January 1, 2009, and October 27, 2019, and certified to FMVSS No. 119, are potentially involved:

• 8-17.5 LT STA Super Traxion

• 8-17.5 STA Super Transport

• 8-14.5LT G/14 STA Super Transport

• 8-14.5LT F 12 STA Super Transport

• 7.50-18 STA Super Traxion

• 7.50-17 STA Super Transport

• 10.00-20 STA Super Transport

Approximately 2,887 of the following STA light truck tires, manufactured between February 2, 2014, and September 1, 2019, and certified to FMVSS No. 139, are potentially involved:

• 37x12.50R20LT Interco SSR

• 37x12.50R17LT Interco SSR

• 35x12.50-16LT Interco Thornbird

• 33x13.50R17LT Interco Irok

III. Noncompliance

STA explains that in both cases, the noncompliance is that the sidewalls of the subject tires incorrectly state the ply material and number of plies and, therefore, do not meet the applicable requirement specified in either paragraph S6.5 of FMVSS No. 119 or paragraphs S5.5(e) and (f) of FMVSS No. 139. Specifically, the subject tires were incorrectly marked in the following ways:

• 8-17.5LT STA Super Traxion

Sidewall marked as Tread: 6 Ply Nylon, Sidewall: 4 Ply Nylon

Correct marking should be Tread: 4 Ply Nylon, Sidewall: 4 Ply Nylon

• 8-17.5 STA Super Transport

Sidewall marked as Tread: 6 Ply Nylon, Sidewall: 4 Ply Nylon

Correct marking should be Tread: 4 Ply Nylon, Sidewall: 4 Ply Nylon

• 8-14.5LT G/14STA Super Transport

Sidewall marked as Tread: 6 Ply Nylon, Sidewall: 6 Ply Nylon

Correct marking should be Tread: 8 Ply Nylon, Sidewall: 6 Ply Nylon

• 8-14.5LT F 12 STA Super Transport

Sidewall marked as Tread: 6 Ply Nylon, Sidewall: 6 Ply Nylon

Correct marking should be Tread: 8 Ply Nylon, Sidewall: 6 Ply Nylon

• 7.50-18 STA Super Traxion

Sidewall marked as Tread: 4 Ply Nylon, Sidewall: 4 Ply Nylon

Correct marking should be Tread: 6 Ply Nylon, Sidewall: 4 Ply Nylon

• 7.50-17 STA Super Transport

Sidewall marked as Tread: 4 Ply Nylon, Sidewall: 4 Ply Nylon

Correct marking should be Tread: 6 Ply Nylon, Sidewall: 6 Ply Nylon

• 10.00-20 STA Super Transport

Sidewall marked as Tread: 10 Ply Nylon, Sidewall: 10 Ply Nylon

Correct marking should be Tread: 8 Ply Nylon, Sidewall: 6 Ply Nylon

• 37x12.50R20LT Interco SSR

Sidewall marked as Tread: 3 Poly + 2 Steel + 1 Nylon, Sidewall: 3 Poly

Correct marking should be Tread: 2 Poly + 2 Steel + 2 Nylon, Sidewall: 2 Poly

• 37x12.50R17LT Interco SSR

Sidewall marked as Tread: 3 Poly + 2 Steel + 1 Nylon, Sidewall: 3 Poly

Correct marking should be Tread: 2 Poly + 2 Steel + 2 Nylon, Sidewall: 2 Poly

• 35x12.50-16LT Interco Thornbird

Sidewall marked as Tread: 4 Ply Nylon, Sidewall: 4 Ply Nylon

Correct marking should be Tread: 4 Poly + 2 Nylon, Sidewall: 4 Ply Poly

• 33x13.50R17LT Interco Irok

Sidewall marked as Tread: 3 Poly + 2 Steel + 1 Nylon, Sidewall: 3 Poly

Correct marking should be Tread: 2 Poly + 2 Steel + 1 Nylon, Sidewall: 2 Poly

IV. Rule Requirements

Paragraph S6.5(f) of FMVSS No. 119 and paragraphs S5.5(e) and (f) of FMVSS No. 139 include the requirements relevant to these petitions. Paragraph S6.5(f) of FMVSS 119 requires that each tire shall be marked on each sidewall with the actual number of plies and the composition of the ply cord material in the sidewall and, if different, in the tread area. Paragraphs 5.5(e) and (f) of FMVSS No. 139 require that each tire must be marked on one sidewall with the generic name of each cord material used in the plies (both sidewall and tread area) of the tire, the actual number of plies in the sidewall, and the actual number of plies in the tread area, if different.

V. Summary of STA's Petitions

The following views and arguments presented in this section, “V. Summary of STA's Petitions,” are the views and arguments provided by STA. They have not been evaluated by the Agency and do not reflect the views of the Agency.

STA described the subject noncompliances and stated that the noncompliances are inconsequential as they relate to motor vehicle safety. In support of its petitions, STA offers the following reasoning:

1. The subject tires were manufactured as designed and meet or exceed all other marking and performance requirements of FMVSS No. 119 or 139, as applicable.

2. The noncompliance is not a safety concern, having no effect on operation of the tire and no impact on the retreading, repairing, or recycling industries.

3. All the tires in inventory and the mold information are being corrected and all future production and sales by STA of these tires will have the correct information on both sidewalls.

4. STA stated that they are not aware of any warranty claims, adjustments, field reports, customer complaints, legal claims, or any incidents, accidents, or injuries related to the subject condition.

5. STA says that NHTSA has granted a number of similar petitions relating to incorrectly identifying the actual number of plies in the tread area. STA went on to cite the following petitions in which the Agency has previously granted:

a. Continental Tire the Americas, LLC, Grant of Petition for Decision of Inconsequential noncompliance, 83 FR 36668 (July 30, 2018).

b. Sumitomo Rubber Industries, Ltd., Grant of Petition for Decision of Inconsequential Noncompliance, 83 FR 13002 (March 26, 2018).

c. Bridgestone Americas Tire Operations, LLC, Grant of Petition for Decision of Inconsequential Noncompliance, 78 FR 47049 (August 2, 2013).

d. Goodyear Tire & Rubber Co. Grant of Petition for Decision of Inconsequential Noncompliance, 74 FR 10804 (March 12, 2009).

e. Nitto Tire U.S.A., Inc., Grant of Petition for Decision of Inconsequential Noncompliance, 81 FR 17764 (March 30, 2016).

f. Hankook Tire America Corp., Grant of Petition for Decision of Inconsequential Noncompliance, 79 FR 30688 (May 28, 2014).

STA concludes by again contending that the subject noncompliances are inconsequential as they relate to motor vehicle safety, and that its petitions to be exempted from providing notification of the noncompliances, as required by 49 U.S.C. 30118, and a remedy for the noncompliance, as required by 49 U.S.C. 30120, be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on these petitions only apply to the subject tires that STA no longer controlled at the time it determined that the noncompliances existed. However, any decision on these petitions does not relieve tire distributors and dealers of the prohibitions on the sale, offer for sale, or introduction or delivery for introduction into interstate commerce of the noncompliant tires under their control after STA notified them that the subject noncompliances existed.

Authority: 49 U.S.C. 30118, 30120: delegations of authority at 49 CFR 1.95 and 501.8.

Otto G. Matheke III,
Director, Office of Vehicle Safety Compliance.

[FR Doc. 2020-22021 Filed 10-5-20; 8:45 am]

BILLING CODE 4910-59-P